DEPARTMENT OF TRANSPORTATION

Federal Motor Carrier Safety Administration

[Docket No. FMCSA-2022-0174]

Agency Information Collection Activities; New Information Collection: Effectiveness of Third-Party Testing and Minimum Standards for Commercial Driver's License (CDL) Knowledge and Skills Tests

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. This ICR is related to the collection of information to determine the effectiveness of (a) third party testing programs as they relate to commercial driver's license (CDL) skills and knowledge tests and (b) minimum testing standards for CDL skills and knowledge tests.

DATES: Comments on this notice must be received on or before November 21, 2022.

ADDRESSES: You may submit comments identified by Federal Docket Management System Docket Number FMCSA-2022-0174 using any of the following methods:

• Federal eRulemaking Portal: https://www.regulations.gov. Follow the online instructions for submitting comments.

• Fax: 1-202-493-2251.

• Mail: Dockets Operations; U.S. Department of Transportation, 1200 New Jersey Avenue SE, West Building, Ground Floor, Room W12-140, Washington, DC 20590-0001.

• Hand Delivery or Courier: U.S. Department of Transportation, 1200 New Jersey Avenue SE, West Building, Ground Floor, Room W12-140, Washington, DC 20590-0001 between 9 a.m. and 5 p.m. ET, Monday through Friday, except Federal holidays.

Instructions: All submissions must include the Agency name and docket number. For detailed instructions on submitting comments, see the Public Participation heading below. Note that all comments received will be posted without change to https://www.regulations.gov, including any personal information provided. Please see the Privacy Act heading below.

Docket: For access to the docket to read background documents or comments received, go to https://www.regulations.gov, and follow the online instructions for accessing the docket, or go to the street address listed above.

Privacy Act: In accordance with 5 U.S.C. 553(c), DOT solicits comments from the public to better inform its decision-making process. DOT posts these comments, without edit, including any personal information the commenter provides, to www.regulations.gov. As described in the system of records notice DOT/ALL 14-FDMS, which can be reviewed at https://www.transportation.gov/privacy, the comments are searchable by the name of the submitter.

Public Participation: The Federal eRulemaking Portal is available 24 hours each day, 365 days each year. You can obtain electronic submission and retrieval help and guidelines under the “FAQ” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Nicole Michel, Research Division, Office of Analysis, Research, and Technology, DOT, FMCSA, West Building 6th Floor, 1200 New Jersey Avenue SE, Washington, DC 20590-0001; 202-366-4354; nicole.michel@dot.gov.

SUPPLEMENTARY INFORMATION:

Background

The CDL Program was enacted through the Commercial Motor Vehicle Safety Act of 1986 (CMVSA) (Pub. L. 99-570, 100 Stat. 3207-170) in response to jurisdiction concerns about avoidable commercial motor vehicle (CMV) crashes and commercial driver qualifications. The CMVSA required the Secretary of Transportation to promulgate regulations establishing minimum Federal requirements for CMV driver licensing, testing, qualifications, and driver classifications depending on the vehicle configuration. CMVSA further established the “one driver, one license” requirement, prohibiting any person who does not hold a valid CDL or learner's permit issued by his or her jurisdiction of domicile from operating a CMV that requires a driver with a CDL and established additional requirements for drivers who transport hazardous materials. The prohibition further affected driver training activities by requiring trainees to receive the training and behind-the-wheel experience necessary to acquire their CDL in their jurisdiction of domicile. CMVSA became law in 1992 and the requirements of the Act are implemented in Title 49, Code of Federal Regulations (CFR), Parts 383 and 384, with Part 383.51 establishing disqualifications and penalties for drivers convicted of traffic violations.

In 2005, AAMVA developed a model testing system that FMCSA approved, thus ensuring that jurisdictions using the Test Model maintain compliance with Federal Motor Carrier Safety Regulations (FMCSRs) governing CDL program training and licensing standards. In 2011, FMCSA established by regulation a requirement that all jurisdictions utilize a testing system that substantially conforms with the AAMVA 2005 Test Model (76 FR 26853). The Test Model, which was upgraded in 2010 and 2014, is currently being used to some degree in all 51 jurisdictions, however, the safety benefits and potential benefits of utilizing the AAMVA V Test Model have not been fully evaluated.

In the Moving Ahead for Progress in the 21st Century Act legislation signed into law on July 6, 2012, Congress passed a requirement for FMCSA to establish an entry level driver training (ELDT) program that both enhanced existing training standards and established minimum level CDL requirements consistent across all jurisdictions (Pub. L. 112-141, 126 Stat. 405). FMCSA's goal was to raise the standard of training, improve the quality of training, and ensure that each location developed a Safety Management System to reduce commercial vehicle accidents in every jurisdiction. Implemented in 49 CFR part 380, subpart F, the ELDT rule revised the mandatory training requirements for entry-level CMV operators who are required to possess a Class A or B commercial driver license; seek to upgrade their CDL; or wish to obtain a hazardous material, school bus, or passenger endorsement (86 FR 34631). The ELDT program was implemented beginning February 7, 2022.

An additional benefit of implementing ELDT is that the training standards and minimum level CDL requirements will apply to both jurisdiction and third-party examiners. Many jurisdictions rely extensively on third-party entities to provide training and conduct knowledge and skills tests. FMCSA currently prohibits the same third-party entity from serving as both trainer and examiner. Current prohibitions limit the ability jurisdictions have to increase training capacity. This has resulted in the more frequent use of third-party entities to make up shortfalls between the demand for CDLs and a jurisdiction's ability to provide training and examinations. There is a well-documented driver shortfall in the trucking industry and the use of third-party entities to conduct training and examinations helps with increasing examiner capacity and reducing delays in drivers being issued CDLs. However, a challenge for FMCSA and jurisdictions is that to date, there is limited research available correlating driver performance with the type of training received (jurisdiction or third party).

An additional challenge that has faced the CDL program since its inception has been fraud associated with the current AAMVA test model. The provisions of 49 CFR 384.228 and 384.229 are intended to provide states with a mechanism for detecting potential fraud and ensuring that all requirements are being addressed. Maintaining proper oversight and auditing third-party training providers remains a challenge for SDLAs. The Training Provider Registry requirement for self-certification of compliance with ELDT and state licensing requirements adds to this challenge and will require SDLAs to allocate additional resources to ensure third-party training provider self-certifications are accurate and meet all requirements.

To address these information gaps, FMCSA is conducting a project titled “Effectiveness of Third-Party Testing and Minimum Standards for the CDL Knowledge and Skills Test”, which will assess the effectiveness of the ELDT program, assess third-party training provider performance, and verify/validate compliance with ELDT minimum standards. This project is intended to address the following research questions:

1. Is there evidence of increasing or decreasing fraud among third-party examiners based on the pass rates and subsequent safety history of CDL holders who were tested by third-party testers?

2. Are there significant differences in the outcomes of third-party testing on CDL testing?

3. Would it be feasible to conduct a future study on the safety impacts of delegating CDL knowledge testing to third-party testers based on available data?

4. How do the driving histories of drivers who received behind-the-wheel training (pre-ELDT requirements) compare to drivers who completed the new ELDT requirements?

5. How do the driving histories of drivers who received theory instruction (pre-ELDT requirements) compare to drivers who completed the new ELDT requirements?

6. How do skills test pass rates of drivers pre-ELDT compliance compare to pass rates of drivers after the ELDT compliance date?

7. Are there identifiable safety benefits that have been realized by the adoption of the 2005 AAMVA CDL Test Model?

8. Are there external factors preventing SDLAs and the CDL community from achieving the full potential of safety benefits of the 2005 AAMVA CDL Test Model?

This one-time survey is necessary to determine institutional and programmatic issues in assessing the effectiveness of the ELDT programs and where improvements should be made; this will ultimately contribute to the safety of our transportation system. The survey will allow researchers to determine which version of the AAMVA V test model (or equivalent) is being utilized, as required by 49 CFR parts 383.131-133.

Title 23, United States Code (U.S.C.), Chapter 4, Section 403 authorizes the Secretary to use funds appropriated to carry out this section to conduct research and development activities, including demonstration projects and the collection and analysis of highway and motor vehicle safety data and related information with respect to all aspects of highway and traffic safety systems and conditions relating to vehicle, highway, driver, passenger, motorcyclist, bicyclist, and pedestrian characteristics; accident causation and investigations; and human behavioral factors and their effect on highway and traffic safety, including driver education, impaired driving and distracted driving; and research on, evaluations of, and identification of best practices related to driver education programs (including driver education curricula, instructor training and certification, program administration, and delivery mechanisms) and make recommendations for harmonizing driver education and multistage graduated licensing systems; and the effect of State laws on any aspects, activities, or programs described in subparagraphs (A) through (E). (See 23 U.S.C. 403(b)(1)(A)(i)-(ii), 23 U.S.C. 403(b)(1)(B)(i)-(iii), 23 U.S.C. 403(b)(1)(E), 23 U.S.C. 403(b)(1)(F)).

Title: Effectiveness of Third-Party Testing and Minimum Standards for Commercial Driver's License (CDL) Knowledge and Skills Tests.

OMB Control Number: 2126-00XX.

Type of Request: New ICR.

Respondents: State and local Government employees (management, professional and related); one respondent per State and one respondent for the District of Columbia.

Estimated Number of Respondents: 51 respondents.

Estimated Time per Response: 1.42 hours per respondent.

Expiration Date: N/A. This is a new ICR.

Frequency of Response: There is a one-time response to the survey per respondent.

Estimated Total Annual Burden: 72.42 hours (1.42 hours per response × 51 respondents) at an estimated cost of $4,749.63 ($93.13 per respondent × 51 respondents).

Definitions: N/A.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Thomas P. Keane,
Associate Administrator, Office of Research and Registration.

[FR Doc. 2022-20406 Filed 9-20-22; 8:45 am]

BILLING CODE 4910-EX-P